DEPARTMENT OF DEFENSE

Department of the Navy

Record of Decision for the U.S. Marine Corps West Coast Basing of the F-35B Aircraft

AGENCY: Department of the Navy, DoD.

ACTION: Record of decision.

SUMMARY: Pursuant to Section 102(2)(c) of the National Environmental Policy Act (NEPA) of 1969, 42 United States Code (U.S.C.) Section 4332(2)(c), the regulations of the Council on Environmental Quality (CEQ) for Implementing the Procedural Provisions of NEPA (40 Code of Federal Regulations [CFR] parts 1500-1508), the Department of the Navy (DoN) NEPA regulations (32 CFR part 775), and the Marine Corps Environmental Compliance and Protection Manual, which is Marine Corps Order P5090.2A with change 2 (MCO P5090.2A), the DoN announces its decision to base and operate 11 operational F-35B Joint Strike Fighter (JSF) squadrons (up to 16 aircraft per squadron, for a total of 176 aircraft), and 1 F-35B Operational Test and Evaluation (OT&E) squadron (8 aircraft) on the West Coast of the United States (U.S.). More specifically, the DoN has decided to implement Alternative 1, the Preferred Alternative, which includes basing six F-35B operational squadrons at Marine Corps Air Station (MCAS) Miramar in San Diego, California, and five operational squadrons plus one OT&E squadron at MCAS Yuma in Arizona. Each operational squadron will consist of up to 16 F-35B aircraft. To support the basing action, the DoN will: (1) Construct and/or renovate airfield facilities and infrastructure necessary to accommodate and maintain the F-35B squadrons; (2) change personnel to accommodate squadron staffing; and (3) conduct F-35B readiness and training operations to attain and maintain proficiency in the operational employment of the F-35B and special exercise operations. The Proposed Action also includes construction and operation of a new Auxiliary Landing Field (ALF) within the Goldwater Range, to accommodate Field Carrier Landing Practice for the F-35B. The F-35B aircraft will replace 126 legacy F/A-18A/B/C/D Hornet and 56 AV-8B Harrier aircraft in the Third Marine Air Wing (3D MAW) and 4th MAW. All practical means to avoid or minimize environmental impacts resulting from implementation of the Preferred Alternative have been adopted.

SUPPLEMENTARY INFORMATION: The complete text of the Record of Decision is available for public viewing on the project Web site at http://www.usmcjsfwest.com along with the Final Environmental Impact Statement (EIS). For further information, contact the JSF West EIS Project Manager, 1220 Pacific Highway, San Diego, California 92132-5190. Telephone 619-532-4742.

Dated: December 10, 2010.
D.J. Werner,
Lieutenant Commander, Office of the Judge Advocate General, U.S. Navy, Federal Register Liaison Officer.

[FR Doc. 2010-31468 Filed 12-14-10; 8:45 am]

BILLING CODE 3810-FF-P